MERIT SYSTEMS PROTECTION BOARD

Membership of the Merit Systems Protection Board's Performance Review Board

AGENCY: Merit Systems Protection Board.

ACTION: Notice.

SUMMARY: Notice is hereby given of the members of the Merit Systems Protection Board's Performance Review Board.

DATES: November 5, 2013.

FOR FURTHER INFORMATION CONTACT: Marion Hines at 202-254-4413 or marion.hines@mspb.gov.

SUPPLEMENTARY INFORMATION: The Merit Systems Protection Board is publishing the names of the current and new members of the Performance Review Board (PRB) as required by 5 U.S.C. 4314(c)(4). William D. Spencer continues to serve as Chairman of the PRB. Susan M. Swafford is a new member of the PRB, and William L. Boulden continues to serve as a member of the PRB.

William D. Spencer,
Clerk of the Board.

[FR Doc. 2013-26405 Filed 11-4-13; 8:45 am]

BILLING CODE 7400-01-P